DEPARTMENT OF TRANSPORTATION

Federal Aviation Administration

14 CFR Part 39

[Docket No. 2000-NM-389-AD; Amendment 39-12221; AD 2001-09-14]

RIN 2120-AA64

Airworthiness Directives; Airbus Model A330-243, -341, -342, and -343 Series Airplanes Equipped With Rolls Royce Trent 700 Series Engines

AGENCY: Federal Aviation Administration, DOT.

ACTION: Final rule; request for comments.

SUMMARY: This amendment adopts a new airworthiness directive (AD) that is applicable to Airbus Model A330-243, -341, -342, and -343 series airplanes equipped with Rolls Royce Trent 700 series engines. This action requires repetitive inspections of certain components, and corrective action, if necessary. This action is necessary to detect and correct fatigue cracking of the hinge assemblies and the 12 o'clock beam structure of the thrust reverser C-duct, which could cause failure of the thrust reverser hinge, resulting in separation of the thrust reverser from the airplane. This action is intended to address the identified unsafe condition.

DATES: Effective May 25, 2001.

The incorporation by reference of certain publications listed in the regulations is approved by the Director of the Federal Register as of May 25, 2001.

Comments for inclusion in the Rules Docket must be received on or before June 11, 2001.

ADDRESSES: Submit comments in triplicate to the Federal Aviation Administration (FAA), Transport Airplane Directorate, ANM-114, Attention: Rules Docket No. 2000-NM-389-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2000-NM-389-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The Direction Générale de l'Aviation Civile (DGAC), which is the airworthiness authority for France, notified the FAA that an unsafe condition may exist on Airbus Model A330-243, -341, -342, and -343 series airplanes equipped with Rolls Royce Trent 700 series engines. The DGAC advises that, during flight tests, unexpectedly high fatigue loads were measured on the hinges integrated on the 12 o'clock beam which forms the upper edge of the thrust reverser C-duct. The hinges are unable to withstand these high fatigue loads for the design life of the airplane. Resulting fatigue cracks, if not detected and corrected, could cause failure of the thrust reverser hinge, which could result in separation of the thrust reverser from the airplane.

Explanation of Relevant Service Information

Airbus has issued Service Bulletin A330-78-3006, Revision 05, dated March 6, 2001, which describes procedures for a general visual inspection of the hinge assemblies and the beam structure of the upper extreme edge of the thrust reverser unit C-duct for cracks, and corrective action, if necessary; a detailed visual inspection, if applicable, of hinges 2, 3, 4, and 5 in the same area for cracks, and corrective action, if necessary; and repetitions of these inspections, as applicable, at applicable intervals. Accomplishment of the actions specified in the service bulletin is intended to adequately address the identified unsafe condition. The DGAC classified this service bulletin as mandatory and issued French airworthiness directive 1997-118-047(B) R2, dated September 20, 2000, in order to assure the continued airworthiness of these airplanes in France.

Airbus Service Bulletin A330-78-3006, Revision 05, dated March 6, 2001, references Rolls Royce Service Bulletin RB.211-78-B115, Revision 2, dated October 29, 1999, as an additional source of service information for accomplishment of the inspections and corrective actions.

FAA's Conclusions

These airplane models are manufactured in France and are type certificated for operation in the United States under the provisions of section 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is being issued to detect and correct fatigue cracking of the hinge assemblies and the 12 o'clock beam structure of the thrust reverser C-duct, which could cause failure of the thrust reverser hinge, resulting in separation of the thrust reverser from the airplane. This AD requires accomplishment of the actions specified in the Airbus service bulletin described previously.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 5 work hours to accomplish the required inspections, at an average labor rate of $60 per work hour. Based on these figures, the cost impact of this AD would be $300 per airplane, per inspection cycle.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-389-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-09-14 Airbus Industrie: Amendment 39-12221. Docket 2000-NM-389-AD.

Applicability: Model A330-243, -341, -342 and -343 series airplanes; certificated in any category; that are equipped with Rolls Royce Trent 700 series engines.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To detect and correct fatigue cracking of the hinge assemblies and the 12 o'clock beam structure of the thrust reverser C-duct, which could cause failure of the thrust reverser hinge, resulting in separation of the thrust reverser from the airplane, accomplish the following:

Initial and Repetitive Inspections

(a) Perform a general visual inspection of the hinge assemblies and the 12 o'clock beam structure of the right and left thrust reversers for cracks, in accordance with Airbus Service Bulletin A330-78-3006, Revision 05, dated March 6, 2001, according to the criteria in Table 1 of this AD, below:

Table 1—Initial Inspection
If— | Then inspect—
Neither Airbus Modification 46879 nor 47358 has been embodied on the airplane | Before the accumulation of 1,200 total flight cycles, or within 6 months after the effective date of this AD, whichever occurs first.
Either Airbus Modification 46879 or 47358 have been embodied on the airplane | Before the accumulation of 2,000 total flight cycles, or 6 months after the effective date of this AD, whichever occurs first.

(1) If no crack is found during the general visual inspection required by paragraph (a) of this AD, before further flight, perform a detailed visual inspection of the lugs of hinges 2, 3, 4, and 5 of the right and left thrust reversers for cracks in accordance with Airbus Service Bulletin A330-78-3006, Revision 05, dated March 6, 2001.

(i) If no crack is found as a result of the detailed visual inspection mandated by paragraph (a)(1) of this AD, repeat the general visual inspection mandated by paragraph (a) of this AD according to the schedule in Table 2 of this AD.

(ii) If a crack is found as a result of the detailed visual inspection mandated by paragraph (a)(1) of this AD:

(A) Before further flight, replace the affected thrust reverser with a new or serviceable thrust reverser in accordance with Airbus Service Bulletin A330-78-3006, Revision 05, dated March 6, 2001.

(B) Repeat the general visual inspection mandated in paragraph (a) of this AD according to the schedule in Table 2 of this AD.

(2) If a crack is found during the general visual inspection required by paragraph (a) of this AD, accomplish the actions required by paragraphs (a)(2)(i) and (a)(2)(ii) of this AD.

(i) Before further flight, replace the affected thrust reverser with a new or serviceable thrust reverser in accordance with Airbus Service Bulletin A330-78-3006, Revision 05, dated March 6, 2001.

(ii) Repeat the general visual inspection mandated in paragraph (a) of this AD according to the schedule in Table 2 of this AD, below:

Table 2.—Repetitive Inspections
If— | Then repeat the inspection at intervals not to exceed—
Neither Airbus Modification 46879 nor 47358 has been embodied on the airplane | 1,200 flight cycles.
Either Airbus Modification 46879 or 47358 has been embodied on the airplane | 2,000 flight cycles.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: For the purposes of this AD, a detailed visual inspection is defined as: “An intensive visual examination of a specific structural area, system, installation, or assembly to detect damage, failure, or irregularity. Available lighting is normally supplemented with a direct source of good lighting at intensity deemed appropriate by the inspector. Inspection aids such as a mirror, magnifying lenses, etc., may be used. Surface cleaning and elaborate access procedures may be required.”

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A330-78-3006, Revision 05, dated March 6, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1997-118-047(B) R2, dated September 20, 2000.

Effective Date

(e) This amendment becomes effective on May 25, 2001.

Issued in Renton, Washington, on April 30, 2001.
Donald L. Riggin,
Acting Manager, Transport Airplane Directorate, Aircraft Certification Service.

[FR Doc. 01-11223 Filed 5-9-01; 8:45 am]

BILLING CODE 4910-13-P